ENVIRONMENTAL PROTECTION AGENCY

40 CFR Parts 2, 59, 60, 80, 85, 86, 87, 600, 1027, 1030, 1033, 1036, 1037, 1039, 1042, 1043, 1045, 1048, 1051, 1054, 1060, 1065, 1066, 1068, and 1090

[EPA-HQ-OAR-2019-0055; FRL-9813-01-OAR]

Control of Air Pollution From New Motor Vehicles: Heavy-Duty Engine and Vehicle Standards; Extension of Comment Period

AGENCY: Environmental Protection Agency (EPA).

ACTION: Notice; extension of public comment period.

SUMMARY: On March 28, 2022, the Environmental Protection Agency (EPA) published a proposed rule titled “Control of Air Pollution from New Motor Vehicles: Heavy-Duty Engine and Vehicle Standards”. EPA is extending the comment period for this proposed rule.

DATES: The comment period for the proposed rule published on March 28, 2022, at 87 FR 17414, is extended. Comments must be received on or before May 16, 2022.

ADDRESSES: You may send your comments, identified by Docket ID No. EPA-HQ-OAR-2019-0055, by any of the following methods:

• Federal eRulemaking Portal: http://www.regulations.gov (our preferred method) Follow the online instructions for submitting comments.

• Mail: U.S. Environmental Protection Agency, EPA Docket Center, Office of Air and Radiation Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. Submit your comments, identified by Docket ID No. EPA-HQ-OAR-2019-0055, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Due to public health concerns related to COVID-19, the EPA Docket Center and Reading Room are open to the public by appointment only. Our Docket Center staff also continues to provide remote customer service via email, phone, and webform. Hand deliveries or couriers will be received by scheduled appointment only. For further information and updates on EPA Docket Center services, please visit us online at https://www.epa.gov/dockets.

The EPA continues to carefully and continuously monitor information from the Centers for Disease Control and Prevention (CDC), local area health departments, and our Federal partners so that we can respond rapidly as conditions change regarding COVID-19.

FOR FURTHER INFORMATION CONTACT: Brian Nelson, Assessment and Standards Division, Office of Transportation and Air Quality, Environmental Protection Agency, 2000 Traverwood Drive, Ann Arbor, MI 48105; telephone number: (734) 214-4278; email address: nelson.brian@epa.gov.

SUPPLEMENTARY INFORMATION: On March 28, 2022, EPA published a proposed rule titled “Control of Air Pollution from New Motor Vehicles: Heavy-Duty Engine and Vehicle Standards” (87 FR 17414). The public comment for this proposed rule was scheduled to end on May 13, 2022. The Clean Air Act requires that the record of proceedings allowing oral presentation of data, views, and arguments on a proposed rule be kept open for 30 days after completion of the proceeding to provide an opportunity for submission of rebuttal and supplementary information. 42 U.S.C. 7607(d)(5). Because EPA held a third day of public hearing for this proposed rule, the final “proceeding allowing oral presentation of data, views, and arguments,” was held on April 14, 2022. For this reason, the public comment period for this proposed rule is extended and will now end on May 16, 2022.

Benjamin Hengst,
Deputy Director, Office of Transportation and Air Quality.

[FR Doc. 2022-09497 Filed 5-2-22; 8:45 am]

BILLING CODE 6560-50-P